DEPARTMENT OF HOMELAND SECURITY

Federal Emergency Management Agency

44 CFR Part 64

[Docket ID FEMA-2010-0003; Internal Agency Docket No. FEMA-8155]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region II
New York:
Afton, Town of, Chenango County | 361084 | December 26, 1975, Emerg; October 15, 1981, Reg; November 26, 2010, Susp | Nov. 26, 2010 | Nov. 26, 2010.
Afton, Village of, Chenango County | 360979 | March 13, 1975, Emerg; October 15, 1981, Reg; November 26, 2010, Susp | ......*do | do.
Bainbridge, Town of, Chenango County | 361085 | March 18, 1976, Emerg; November 18, 1983, Reg; November 26, 2010, Susp | ......do | do.
Bainbridge, Village of, Chenango County | 360158 | December 4, 1974, Emerg; October 5, 1984, Reg; November 26, 2010, Susp | ......do | do.
Columbus, Town of, Chenango County | 361086 | November 18, 1975, Emerg; April 8, 1983, Reg; November 26, 2010, Susp | ......do | do.
Coventry, Town of, Chenango County | 361375 | September 20, 1976, Emerg; October 15, 1985, Reg; November 26, 2010, Susp | ......do | do.
German, Town of, Chenango County | 361587 | November 18, 1983, Emerg; September 24, 1984, Reg; November 26, 2010, Susp | ......do | do.
Greene, Town of, Chenango County | 361087 | January 12, 1976, Emerg; August 3, 1981, Reg; November 26, 2010, Susp | ......do | do.
Greene, Village of, Chenango County | 360159 | March 4, 1977, Emerg; August 3, 1981, Reg; November 26, 2010, Susp | ......do | do.
Guilford, Town of, Chenango County | 361088 | March 4, 1976, Emerg; July 6, 1984, Reg; November 26, 2010, Susp | ......do | do.
Lincklaen, Town of, Chenango County | 361376 | May 14, 1976, Emerg; March 23, 1984, Reg; November 26, 2010, Susp | ......do | do.
McDonough, Town of, Chenango County | 361377 | March 26, 1976, Emerg; June 5, 1985, Reg; November 26, 2010, Susp | ......do | do.
New Berlin, Town of, Chenango County | 361303 | December 10, 1975, Emerg; June 5, 1985, Reg; November 26, 2010, Susp | ......do | do.
New Berlin, Village of, Chenango County | 360160 | September 11, 1975, Emerg; November 4, 1983, Reg; November 26, 2010, Susp | ......do | do.
North Norwich, Town of, Chenango County | 361089 | May 25, 1976, Emerg; August 24, 1984, Reg; November 26, 2010, Susp | ......do | do.
Norwich, City of, Chenango County | 360161 | April 26, 1974, Emerg; December 18, 1985, Reg; November 26, 2010, Susp | ......do | do.
Norwich, Town of, Chenango County | 360162 | August 7, 1975, Emerg; November 15, 1984, Reg; November 26, 2010, Susp | ......do | do.
Otselic, Town of, Chenango County | 361090 | June 15, 1976, Emerg; June 5, 1985, Reg; November 26, 2010, Susp | ......do | do.
Oxford, Town of, Chenango County | 361304 | March 21, 1975, Emerg; August 24, 1984, Reg; November 26, 2010, Susp | ......do | do.
Oxford, Village of, Chenango County | 360163 | June 4, 1975, Emerg; September 10, 1984, Reg; November 26, 2010, Susp | ......do | do.
Pitcher, Town of, Chenango County | 361092 | September 26, 1975, Emerg; March 4, 1986, Reg; November 26, 2010, Susp | ......do | do.
Plymouth, Town of, Chenango County | 361305 | September 30, 1975, Emerg; November 4, 1983, Reg; November 26, 2010, Susp | ......do | do.
Preston, Town of, Chenango County | 361306 | December 27, 1976, Emerg; April 1, 1983, Reg; November 26, 2010, Susp | ......do | do.
Sherburne, Village of, Chenango County | 360164 | August 18, 1975, Emerg; September 10, 1984, Reg; November 26, 2010, Susp | ......do | do.
Smithville, Town of, Chenango County | 361040 | April 17, 1980, Emerg; November 4, 1983, Reg; November 26, 2010, Susp | ......do | do.
Smyrna, Town of, Chenango County | 361308 | February 2, 1976, Emerg; September 24, 1984, Reg; November 26, 2010, Susp | ......do | do.
Smyrna, Village of, Chenango County | 361378 | November 12, 1975, Emerg; October 15, 1985, Reg; November 26, 2010, Susp | ......do | do.
Region III
Pennsylvania:
Barnett, Township of, Forest County | 421643 | March 7, 1977, Emerg; December 1, 1986, Reg; November 26, 2010, Susp | ......do | do.
Green, Township of, Forest County | 421644 | January 16, 1980, Emerg; June 19, 1985, Reg; November 26, 2010, Susp | ......do | do.
Harmony, Township of, Forest County | 421645 | August 14, 1975, Emerg; November 5, 1986, Reg; November 26, 2010, Susp | ......do | do.
Hickory, Township of, Forest County | 421646 | December 17, 1975, Emerg; November 19, 1986, Reg; November 26, 2010, Susp | ......do | do.
Howe, Township of, Forest County | 421647 | September 16, 1975, Emerg; June 1, 1987, Reg; November 26, 2010, Susp | ......do | do.
Jenks, Township of, Forest County | 422422 | November 1, 1976, Emerg; February 15, 1985, Reg; November 26, 2010, Susp | ......do | do.
Kingsley, Township of, Forest County | 422423 | February 25, 1977, Emerg; June 1, 1987, Reg; November 26, 2010, Susp | ......do | do.
Tionesta, Borough of, Forest County | 421648 | May 12, 1975, Emerg; November 5, 1986, Reg; November 26, 2010, Susp | ......do | do.
Tionesta, Township of, Forest County | 420468 | February 28, 1977, Emerg; February 15, 1985, Reg; November 26, 2010, Susp | ......do | do.
Region IV
Alabama:
Coosa County, Unincorporated Areas | 010052 | August 7, 1975, Emerg; August 15, 1984, Reg; November 26, 2010, Susp | ......do | do.
Goodwater, Town of, Coosa County | 010387 | March 25, 2008, Emerg; November 26, 2010, Reg; November 26, 2010, Susp | ......do | do.
Mississippi:
Abbeville, Town of, Lafayette County | 280309 | February 24, 2010, Emerg; November 26, 2010, Reg; November 26, 2010, Susp | ......do | do.
Lafayette County, Unincorporated Areas | 280093 | N/A, Emerg; December 8, 2006, Reg; November 26, 2010, Susp | ......do | do.
Oxford, City of, Lafayette County | 280094 | August 30, 1973, Emerg; September 29, 1978, Reg; November 26, 2010, Susp | ......do | do.
Tennessee:
Bledsoe County, Unincorporated Areas | 470219 | November 1, 2007, Emerg; March 1, 2008, Reg; November 26, 2010, Susp | ......do | do.
Pikeville, City of, Bledsoe County | 470011 | September 10, 1975, Emerg; May 17, 1988, Reg; November 26, 2010, Susp | ......do | do.
Region V
Illinois:
Brookport, City of, Massac County | 170468 | May 23, 1997, Emerg; November 26, 2010, Reg; November 26, 2010, Susp | ......do | do.
Massac County, Unincorporated Areas | 170467 | July 25, 1975, Emerg; July 5, 1983, Reg; November 26, 2010, Susp | ......do | do.
Michigan:
Bellevue, Village of, Eaton County | 260566 | August 20, 1975, Emerg; July 3, 1986, Reg; November 26, 2010, Susp | ......do | do.
Carmel, Township of, Eaton County | 260682 | June 11, 1976, Emerg; January 31, 1979, Reg; November 26, 2010, Susp | ......do | do.
Charlotte, City of, Eaton County | 260065 | May 16, 1975, Emerg; July 2, 1981, Reg; November 26, 2010, Susp | ......do | do.
Delta, Charter Township of, Eaton County | 260066 | December 5, 1974, Emerg; March 2, 1981, Reg; November 26, 2010, Susp | ......do | do.
Dimondale, Village of, Eaton County | 260333 | September 21, 1976, Emerg; September 30, 1980, Reg; November 26, 2010, Susp | ......do | do.
Eaton Rapids, City of, Eaton County | 260067 | June 18, 1975, Emerg; October 15, 1982, Reg; November 26, 2010, Susp | ......do | do.
Eaton Rapids, Township of, Eaton County | 260391 | June 2, 1978, Emerg; December 15, 1983, Reg; November 26, 2010, Susp | ......do | do.
Grand Ledge, City of, Clinton and Eaton Counties | 260068 | July 18, 1975, Emerg; January 2, 1981, Reg; November 26, 2010, Susp | ......do | do.
Olivet, City of, Eaton County | 260069 | September 3, 1975, Emerg; November 9, 1979, Reg; November 26, 2010, Susp | ......do | do.
Oneida, Charter Township of, Eaton County | 260070 | December 29, 1978, Emerg; July 16, 1981, Reg; November 26, 2010, Susp | ......do | do.
Potterville, City of, Eaton County | 260711 | March 9, 1978, Emerg; September 28, 1979, Reg; November 26, 2010, Susp | ......do | do.
Windsor, Charter Township of, Eaton County | 260071 | May 20, 1975, Emerg; January 2, 1981, Reg; November 26, 2010, Susp | ......do | do.
Minnesota:
Balaton, City of, Lyon County | 270553 | July 26, 1974, Emerg; August 19, 1985, Reg; November 26, 2010, Susp | ......do | do.
Ghent, City of, Lyon County | 270257 | September 3, 1975, Emerg; June 8, 1984, Reg; November 26, 2010, Susp | ......do | do.
Lynd, City of, Lyon County | 270584 | November 8, 1974, Emerg; August 19, 1985, Reg; November 26, 2010, Susp | ......do | do.
Lyon County, Unincorporated Areas | 270256 | June 28, 1974, Emerg; June 1, 1998, Reg; November 26, 2010, Susp | ......do | do.
Marshall, City of, Lyon County | 270258 | March 23, 1973, Emerg; September 30, 1977, Reg; November 26, 2010, Susp | ......do | do.
Minneota, City of, Lyon County | 270259 | April 30, 1974, Emerg; April 6, 2000, Reg; November 26, 2010, Susp | ......do | do.
Russell, City of, Lyon County | 270600 | January 30, 1976, Emerg; July 6, 1984, Reg; November 26, 2010, Susp | ......do | do.
Region VI
Arkansas:
Bellefonte, Town of, Boone County | 050018 | May 5, 1975, Emerg; November 1, 1985, Reg; November 26, 2010, Susp | ......do | do.
Bergman, Town of, Boone County | 050385 | June 27, 1975, Emerg; February 1, 1987, Reg; November 26, 2010, Susp | ......do | do.
Boone County, Unincorporated Areas | 050016 | November 1, 1989, Emerg; January 1, 1992, Reg; November 26, 2010, Susp | ......do | do.
Clarksville, City of, Johnson County | 050112 | June 26, 1975, Emerg; September 30, 1982, Reg; November 26, 2010, Susp | ......do | do.
Diamond City, City of, Boone County | 050407 | January 13, 1976, Emerg; February 1, 1987, Reg; November 26, 2010, Susp | ......do | do.
Harrison, City of, Boone County | 050020 | December 30, 1971, Emerg; July 16, 1980, Reg; November 26, 2010, Susp | ......do | do.
Hartman, Town of, Johnson County | 050251 | November 10, 2009, Emerg; November 26, 2010, Reg; November 26, 2010, Susp | ......do | do.
Lamar, City of, Johnson County | 050113 | April 3, 1975, Emerg; July 1, 1987, Reg; November 26, 2010, Susp | ......do | do.
Louisiana:
Church Point, Town of, Acadia Parish | 220002 | June 23, 1975, Emerg; November 5, 1980, Reg; November 26, 2010, Susp | ......do | do.
Crowley, City of, Acadia Parish | 225195 | August 27, 1971, Emerg; June 30, 1972, Reg; November 26, 2010, Susp | ......do | do.
Deridder, City of, Beauregard Parish | 220027 | September 9, 1974, Emerg; October 19, 1982, Reg; November 26, 2010, Susp | ......do | do.
Duson, Town of, Acadia and Lafayette Parishes | 220104 | November 11, 1975, Emerg; September 30, 1981, Reg; November 26, 2010, Susp | ......do | do.
Estherwood, Village of, Acadia Parish | 220004 | June 12, 1975, Emerg; February 4, 1981, Reg; November 26, 2010, Susp | ......do | do.
Iota, Town of, Acadia Parish | 220005 | January 21, 1975, Emerg; July 18, 1985, Reg; November 26, 2010, Susp | ......do | do.
Mermentau, Village of, Acadia Parish | 220006 | January 12, 1976, Emerg; March 2, 1981, Reg; November 26, 2010, Susp | ......do | do.
Merryville, Town of, Beauregard Parish | 220028 | November 1, 1974, Emerg; February 1, 1987, Reg; November 26, 2010, Susp | ......do | do.
Morse, Village of, Acadia Parish | 220007 | December 8, 1976, Emerg; April 15, 1981, Reg; November 26, 2010, Susp | ......do | do.
Rayne, City of, Acadia Parish | 220008 | August 27, 1974, Emerg; March 2, 1981, Reg; November 26, 2010, Susp | ......do | do.
Oklahoma:
Adair County, Unincorporated Areas | 400501 | February 17, 1987, Emerg; April 1, 1988, Reg; November 26, 2010, Susp | ......do | do.
Stillwell, City of, Adair County | 400001 | November 14, 1975, Emerg; August 4, 1987, Reg; November 26, 2010, Susp | ......do | do.
Texas:
Moulton, City of, Lavaca County | 480433 | July 13, 1979, Emerg; March 4, 1986, Reg; November 26, 2010, Susp | ......do | do.
Wilson County, Unincorporated Areas | 480230 | January 10, 1974, Emerg; March 15, 1978, Reg; November 26, 2010, Susp | ......do | do.
Yoakum, City of, Dewitt and Lavaca Counties | 480434 | October 8, 1981, Emerg; September 1, 1987, Reg; November 26, 2010, Susp | ......do | do.
Region VII
Missouri:
Butler County, Unincorporated Areas | 290044 | April 26, 1984, Emerg; April 3, 1985, Reg; November 26, 2010, Susp | ......do | do.
Concordia, City of, Lafayette County | 290745 | December 17, 1975, Emerg; February 9, 1979, Reg; November 26, 2010, Susp | ......do | do.
Emma, City of, Lafayette and Saline Counties | 290587 | August 26, 1976, Emerg; March 25, 1977, Reg; November 26, 2010, Susp | ......do | do.
Fisk, City of, Butler County | 290045 | August 8, 1975, Emerg; September 16, 1981, Reg; November 26, 2010, Susp | ......do | do.
Granby, City of, Newton County | 290263 | August 26, 1975, Emerg; July 3, 1985, Reg; November 26, 2010, Susp | ......do | do.
Lafayette County, Unincorporated Areas | 290812 | June 20, 1983, Emerg; September 4, 1986, Reg; November 26, 2010, Susp | ......do | do.
Lexington, City of, Lafayette County | 290707 | February 17, 1995, Emerg; November 7, 2001, Reg; November 26, 2010, Susp | ......do | do.
Neelyville, City of, Butler County | 290046 | July 3, 1975, Emerg; May 5, 1981, Reg; November 26, 2010, Susp | ......do | do.
Neosho, City of, Newton County | 290265 | April 22, 1975, Emerg; July 5, 1982, Reg; November 26, 2010, Susp | ......do | do.
Odessa, City of, Lafayette County | 290669 | April 29, 1976, Emerg; April 11, 1979, Reg; November 26, 2010, Susp | ......do | do.
Poplar Bluff, City of, Butler County | 290047 | July 29, 1975, Emerg; February 4, 1981, Reg; November 26, 2010, Susp | ......do | do.
Qulin, City of, Butler County | 290048 | September 10, 1975, Emerg; October 15, 1981, Reg; November 26, 2010, Susp | ......do | do.
Redings Mill, Village of, Newton County | 290484 | June 5, 1975, Emerg; March 4, 1985, Reg; November 26, 2010, Susp | ......do | do.
Saginaw, Village of, Newton County | 290486 | September 2, 1975, Emerg; September 4, 1985, Reg; November 26, 2010, Susp | ......do | do.
Seneca, City of, Newton County | 290269 | August 30, 1973, Emerg; March 15, 1977, Reg; November 26, 2010, Susp | ......do | do.
Nebraska:
Amherst, Village of, Buffalo County | 310245 | June 4, 1975, Emerg; September 27, 1985, Reg; November 26, 2010, Susp | ......do | do.
Avoca, Village of, Cass and Otoe Counties | 310247 | August 3, 1979, Emerg; August 3, 1979, Reg; November 26, 2010, Susp | ......do | do.
Buffalo County, Unincorporated Areas | 310419 | July 10, 1986, Emerg; March 1, 1990, Reg; November 26, 2010, Susp | ......do | do.
Elm Creek, Village of, Buffalo County | 310014 | November 10, 1975, Emerg; August 19, 1987, Reg; November 26, 2010, Susp | ......do | do.
Gibbon, City of, Buffalo County | 310015 | June 25, 1975, Emerg; September 27, 1985, Reg; November 26, 2010, Susp | ......do | do.
Greenwood, Village of, Cass County | 310374 | June 30, 1977, Emerg; June 3, 1980, Reg; November 26, 2010, Susp | ......do | do.
Kearney, City of, Buffalo County | 310016 | June 23, 1975, Emerg; July 5, 1984, Reg; November 26, 2010, Susp | ......do | do.
Murray, Village of, Cass County | 310305 | June 30, 1976, Emerg; January 5, 1978, Reg; November 26, 2010, Susp | ......do | do.
Nehawka, Village of, Cass County | 310032 | April 17, 1975, Emerg; February 15, 1978, Reg; November 26, 2010, Susp | ......do | do.
Pleasanton, Village of, Buffalo County | 310017 | May 6, 1975, Emerg; September 27, 1985, Reg; November 26, 2010, Susp | ......do | do.
Ravenna, City of, Buffalo County | 310018 | June 16, 1975, Emerg; September 4, 1985, Reg; November 26, 2010, Susp | ......do | do.
Shelton, Village of, Buffalo County | 310019 | October 30, 1975, Emerg; September 27, 1985, Reg; November 26, 2010, Susp | ......do | do.
South Bend, Village of, Cass County | 310034 | July 20, 1984, Emerg; July 20, 1984, Reg; November 26, 2010, Susp | ......do | do.
Union, Village of, Cass County | 310035 | March 11, 1975, Emerg; April 3, 1978, Reg; November 26, 2010, Susp | ......do | do.
Region IX
California:
Del Norte County, Unincorporated Areas | 065025 | September 4, 1970, Emerg; January 24, 1983, Reg; November 26, 2010, Susp | ......do | do.
Region X
Idaho:
Blaine County, Unincorporated Areas | 165167 | May 14, 1971, Emerg; March 16, 1981, Reg; November 26, 2010, Susp | ......do | do.
Bellevue, City of, Blaine County | 160021 | May 29, 1975, Emerg; August 1, 1978, Reg; November 26, 2010, Susp | ......do | do.
Carey, City of, Blaine County | 160234 | N/A, Emerg; March 22, 2006, Reg; November 26, 2010, Susp | ......do | do.
Hailey, City of, Blaine County | 160022 | May 28, 1974, Emerg; April 17, 1978, Reg; November 26, 2010, Susp | ......do | do.
Ketchum, City of, Blaine County | 160023 | May 9, 1974, Emerg; June 15, 1978, Reg; November 26, 2010, Susp | ......do | do.
Sun Valley, City of, Blaine County | 160024 | September 6, 1974, Emerg; April 17, 1978, Reg; November 26, 2010, Susp | ......do | do.
Oregon:
Columbia County, Unincorporated Areas | 410034 | April 11, 1974, Emerg; August 16, 1988, Reg; November 26, 2010, Susp | ......do | do.
Clatskanie, City of, Columbia County | 410035 | May 21, 1975, Emerg; September 29, 1986, Reg; November 26, 2010, Susp | ......do | do.
Columbia City, City of, Columbia County | 410036 | December 27, 1974, Emerg; June 5, 1985, Reg; November 26, 2010, Susp | ......do | do.
Portland, City of, Clackamas, Multnomah, and Washington counties | 410183 | May 19, 1972, Emerg; October 15, 1980, Reg; November 26, 2010, Susp | ......do | do.
Prescott, City of, Columbia County | 410037 | December 17, 1987, Emerg; August 16, 1988, Reg; November 26, 2010, Susp | ......do | do.
Rainier, City of, Columbia County | 410038 | July 7, 1975, Emerg; August 16, 1988, Reg; November 26, 2010, Susp | ......do | do.
Scappoose, City of, Columbia County | 410039 | October 15, 1974, Emerg; August 16, 1988, Reg; November 26, 2010, Susp | ......do | do.
St. Helens, City of, Columbia County | 410040 | June 27, 1974, Emerg; September 29, 1986, Reg; November 26, 2010, Susp | ......do | do.
Vernonia, City of, Columbia County | 410041 | April 26, 1974, Emerg; August 16, 1988, Reg; November 26, 2010, Susp | ......do | do.
* -do- = Ditto.
Code for reading third column: Emerg.—Emergency; Reg.—Regular; Susp.—Suspension.

Dated: October 29, 2010.
Sandra K. Knight,
Deputy Federal Insurance and Mitigation Administrator, Mitigation.

[FR Doc. 2010-28206 Filed 11-8-10; 8:45 am]

BILLING CODE 9110-12-P